NUCLEAR REGULATORY COMMISSION

Advisory Committee On Reactor Safeguards (ACRS); Meeting of the ACRS Subcommittee on Fukushima; Revised Date of the February 19, 2016, ACRS Subcommittee Meeting

The ACRS Subcommittee meeting on Fukushima scheduled for February 19, 2016, 8:30 a.m. until 5:00 p.m., has been changed to February 18, 2016.

The notice of this meeting was previously published in the Federal Register on Thursday, January 14, 2016, (81 FR 1968).

Information regarding this meeting can be obtained by contacting Kathy Weaver, Designated Federal Official (DFO) (Telephone 301-415-6236 or Email: Kathy.Weaver@nrc.gov) between 7:30 a.m. and 5:15 p.m. (EST)).

Dated: January 19, 2016.
Mark L. Banks,
Chief, Technical Support Branch, Advisory Committee on Reactor Safeguards.

[FR Doc. 2016-01478 Filed 1-25-16; 8:45 am]

BILLING CODE 7590-01-P